DEPARTMENT OF TRANSPORTATION

Coast Guard

33 CFR Part 117

[CGD01-00-016]

Drawbridge Operation Regulations; Mianus River, CT

AGENCY: Coast Guard, DOT.

ACTION: Notice of temporary deviation and request for comments.

SUMMARY: The Commander, First Coast Guard District has issued a temporary 90 day deviation from the existing drawbridge operation regulations for the Metro-North Bridge, mile 1.0, at Greenwich, Connecticut. This deviation will require the bridge to open on signal, June 7, 2000 through September 4, 2000, from 9 p.m. to 5 a.m., after a four-hour advance notice is given by calling the number posted at the bridge. The bridge presently does not open for vessel traffic between 9 p.m. and 5 a.m., daily. This deviation is necessary in order to test an alternate drawbridge operation schedule.

DATES: This deviation is effective from June 7, 2000 through September 4, 2000. Comments must reach the Coast Guard on or before September 30, 2000.

ADDRESSES: You may mail comments to Commander (obr), First Coast Guard District, Bridge Branch, at 408 Atlantic Avenue, Boston, MA. 02110-3350, or deliver them at the same address between 7 a.m. and 3 p.m., Monday through Friday, except Federal holidays. The telephone number is (617) 223-8364.

FOR FURTHER INFORMATION CONTACT: Mr. John McDonald, Project Officer, First Coast Guard District, (617) 223-8364.

SUPPLEMENTARY INFORMATION:

Request for Comments

We encourage you to participate in this notice by submitting comments or related material. If you do so, please include your name and address, identify the docket number for this notice (CGD01-00-016), indicate the specific section of this document to which each comment applies, and give the reason for each comment. Please submit all comments and related material in an unbound format, no larger than 8½ by 11 inches, suitable for copying. If you would like to know if they reached us, please enclose a stamped, self-addressed postcard or envelope. We will consider all comments and material received during the comment period.

Background and Purpose

The Metro-North Bridge, mile 1.0, across the Mianus River has a vertical clearance of 20 feet at mean high water and 27 feet at mean low water in the closed position. The existing operating regulations in 33 CFR 117.209 require the bridge to open on signal from 5 a.m. to 9 p.m., immediately for commercial vessels and as soon as practicable but no later than 20 minutes after the signal to open for the passage of all other vessels. When a train scheduled to cross the bridge without stopping has passed the Greenwich or Riverside stations and is in motion toward the bridge, the draw shall open as soon as the train has crossed the bridge. From 9 p.m. to 5 a.m., the draw need not be opened for the passage of vessels.

The Coast Guard received a request from a commercial vessel operator requesting a change to the operating regulations for the Metro-North Bridge. The commercial operator has five vessels that transit the Metro-North Bridge. One of the five vessels can not transit through the bridge without a bridge opening. The commercial operator would like the bridge to open for vessel traffic during the 9 p.m. to 5 a.m. time period. The commercial operator expects to make 30-40 night transits from May through October that will require bridge openings after 9 p.m., when the bridge is normally closed.

Under the deviation, the Metro-North Bridge, mile 1.0, across the Mianus River at Greenwich, from June 7, 2000 through September 4, 2000, will, from 5 a.m. to 9 p.m., open on signal immediately for commercial vessels and as soon as practicable, but no later than 20 minutes after the signal to open for the passage of all other vessels. When a train scheduled to cross the bridge without stopping has passed the Greenwich or Riverside stations and is in motion toward the bridge, the draw will open as soon as the train has crossed the bridge. From 9 p.m. to 5 a.m., the draw will open on signal if at least a four-hour advance notice is given by calling the number posted at the bridge.

It is expected that this test schedule will meet the present needs of navigation.

This deviation from the normal operating regulations is authorized under 33 CFR 117.43.

Dated: April 12 2000,
Robert F. Duncan,
Captain, U.S. Coast Guard, Acting Commander, First Coast Guard District.

[FR Doc. 00-10452 Filed 4-26-00; 8:45 am]

BILLING CODE 4910-15-P